DEPARTMENT OF HEALTH AND HUMAN SERVICES

Centers for Disease Control and Prevention

Advisory Committee on Childhood Lead Poisoning Prevention(ACCLPP)

In accordance with section 10(a)(2) of the Federal Advisory Committee Act (Pub. L. 92-463), the CDC, National Center for Environmental Health (NCEH) announces the following aforementioned committee meeting:

Dates and times:

November 14, 2011, 8:15 a.m.-5 p.m.

November 15, 2011, 9 a.m.-5 p.m.

November 16, 2011, 9 a.m.-12 p.m.

Place: The Westin Atlanta North at Perimeter, Seven Concourse Parkway, Atlanta, Georgia, (770) 395-3900

Status: This meeting is open to the public, limited only by the space available. The meeting room accommodates approximately 100 people. Opportunities will be provided during the meeting for oral comments.

Purpose: The Committee provides advice and guidance to the Secretary; the Assistant Secretary for Health; and the Director, CDC, regarding new scientific knowledge and technological developments and their practical implications for childhood lead poisoning prevention efforts. The committee also reviews and reports regularly on childhood lead poisoning prevention practices and recommends improvements in national childhood lead poisoning prevention efforts.

Matters To Be Discussed: Agenda items will include the following: Healthy Homes and Childhood Lead Poisoning Prevention State Presentation; Federal agency updates; Advisory Committee on Childhood Lead Poisoning Prevention (ACCLPP) updates; Updates and recommendations from the Educational Intervention Workgroup, Laboratory Workgroup, Consumer Product Workgroup and the Blood Lead Level of Concern Workgroup.

Agenda items are subject to change as priorities dictate.

For Further Information Contact: Claudine Johnson, Program Operation Assistant or Nikki Walker, Healthy Homes and Lead Poisoning Prevention Branch, Division of Environmental Emergency Health Services, NCEH, CDC, 4770 Buford Hwy, NE., Mailstop F-60, Atlanta, GA 30341, telephone (770) 488-3629, Nikki Walker (770) 488-7225 fax (770) 488-3635.

The Director, Management Analysis and Services Office has been delegated the authority to sign Federal Register notices pertaining to announcements of meetings and other committee management activities, for both the Centers for Disease Control and Prevention and the Agency for Toxic Substances and Disease Registry.

Dated: September 29, 2011.
Elaine L. Baker,
Director, Management Analysis and Services Office, Centers for Disease Control and Prevention.

[FR Doc. 2011-25843 Filed 10-5-11; 8:45 am]

BILLING CODE 4163-18-P